DEPARTMENT OF AGRICULTURE

Food and Nutrition Service

7 CFR Part 220

[FNS-2005-0008]

RIN 0584-AD50

School Breakfast Program: Severe Need Assistance

AGENCY: Food and Nutrition Service (FNS), USDA.

ACTION: Affirmation of interim rule as final rule.

SUMMARY: The Department is adopting as a final rule, without change, an interim rule that amended the regulations for the School Breakfast Program. The interim rule addresses and implements amendments made by Section 201 of the Child Nutrition and WIC Reauthorization Act of 2004 and amends the School Breakfast Program (SBP) regulations to eliminate the requirement that a school's costs exceed the rate of reimbursement as a criterion for receiving the higher severe need funding available in the SBP. The rule also allows State agencies to provide severe need reimbursements to certain new schools that are beginning participation in the school feeding programs and therefore have no historical second preceding year participation information, as was previously required. The rule is intended to simplify eligibility for severe need reimbursements by removing previous restrictions on receipt of those payments. This rule does not impose new administrative requirements on State or local governmental entities.

DATES: Effective on June 15, 2009, the Department is adopting as a final rule the interim rule published at 70 FR 66247 on November 2, 2005.

FOR FURTHER INFORMATION CONTACT: Ms. Melissa Rothstein, Child Nutrition Division, Food and Nutrition Service at (703) 305-2590.

SUPPLEMENTARY INFORMATION:

Background

On November 2, 2005, the Department published an interim rule on the School Breakfast Program. Section 501(b) of Public Law 108-265 states that FNS may promulgate interim regulations to implement amendments made by Section 201 of the Child Nutrition and WIC Reauthorization Act of 2004. FNS published an interim rule to expedite implementation of the rule's provisions, while allowing public input. Comments were invited on the rule and the comment period ended on May 1, 2006. FNS received four public comments, all in support of the rule: two from State agencies, one from a school district, and one from a school. Commenters commended FNS for helping severe need schools participate in the SBP by:

• Eliminating the paperwork burden associated with documenting costs, and

• Allowing the Secretary to determine severe need funding for new schools that do not have historical participation information.

Commenters did not recommend any changes to the provisions of the interim rule. Therefore, the Department is adopting the interim rule as a final rule without change. Although there are no changes to the rule, the most recent School Breakfast Program information collection package (OMB Information Collection Request 0584-0012), shows that the overall burden hours have increased due to school food authority and school participation. This action also affirms information contained in the interim rule concerning Executive Order 12866, the Regulatory Flexibility Act, Executive Order 12988, and the Paperwork Reduction Act. Further, for this action, the Office of Management and Budget has waived its review under Executive Order 12866.

List of Subjects in 7 CFR Part 220

Grant programs—education, Grant programs—health, Infants and children, Nutrition, Reporting and recordkeeping requirements, School breakfast and lunch programs.

PART 220—SCHOOL BREAKFAST PROGRAM: SEVERE NEED ASSISTANCE

Accordingly, the Department is adopting as a final rule, without change, the interim rule that amended 7 CFR Part 220 and was published at 70 FR 66247 on November 2, 2005.

Dated: June 3, 2009.
Julia Paradis,
Administrator, Food and Nutrition Service.

[FR Doc. E9-14021 Filed 6-12-09; 8:45 am]

BILLING CODE 3410-30-P